NATIONAL SCIENCE FOUNDATION

Advisory Committee for Biological Sciences; Notice of Meeting

In accordance with the Federal Advisory Committee Act (Pub. L., 92-463, as amended), the National Science Foundation announces the following meeting:

Name: Advisory Committee for Biological Sciences (1110).

Date and Time: October 18, 2007—8 a.m.—5 p.m. October 19, 2007—8 a.m.—12 p.m.

Place: National Science Foundation, 4201 Wilson Blvd., Arlington, VA 22230, Room 375.

Type of Meeting: Open.

Contact Person: Dr. Charles Liarakos, Senior Advisor, Biological Sciences, Room 605, National Science Foundation, 4201 Wilson Boulevard, Arlington, VA 22230 Tel No.: (703) 292-8400.

Minutes: May be obtained from the contact person listed above.

Purpose of Meeting: The Advisory Committee for BIO provides advice, recommendations, and oversight concerning major program emphases, directions, and goals for the research-related activities of the divisions that make up BIO.

Agenda

• Undergraduate Education in the Biological Sciences and Biology Education Presentations.

• COV Reports.

• Discussion.

Dated: September 5, 2007.
Susanne Bolton,
Committee Management Officer.

[FR Doc. E7-17725 Filed 9-7-07; 8:45 am]

BILLING CODE 7555-01-P